DEPARTMENT OF TRANSPORTATION

Office of the Secretary

Notice of Applications for Certificates of Public Convenience and Necessity and Foreign Air Carrier Permits Filed Under Subpart B (Formerly Subpart Q) During the Week Ending July 19, 2002

The following applications for certificates of public convenience and necessity and foreign air carrier permits were filed under subpart B (formerly subpart Q) of the Department of Transportation's procedural regulations (See 14 CFR 301.201 et seq.). The due date for answers, conforming applications, or motions to modify scope are set forth below for each application. Following the answer period dot may process the application by expedited procedures. Such procedures may consist of the adoption of a show-cause order, a tentative order, or in appropriate cases a final order without further proceedings.

Docket Number: OST-2002-12683.

Date Filed: July 19, 2002.

Due Date for Answers, Conforming Applications, or Motion to Modify Scope: August 9, 2002.

Description: Application of Evergreen International Airlines, Inc., pursuant to Order 2002-6-20, 49 U.S.C. Section 41102 and Subpart B, requesting a certificate of public convenience and necessity to engage in scheduled foreign air transportation of property and mail between a point or points in the United States, via intermediate points, and the co-terminal points Manaus and Sao Paulo, Brazil. Evergreen further requests, authority to integrate this authority with its existing certificate and exemption authority and to commingle traffic consistent with applicable aviation agreements. In addition, Evergreen requests designation as the fourth U.S.-Brazil all-cargo airline and an allocation of four weekly round trip frequencies.

Docket Number: OST-2002-12683.

Date Filed: July 19, 2002.

Due Date for Answers, Conforming Applications, or Motion to Modify Scope: August 9, 2002.

Description: Application of Amerijet International, Inc., pursuant to 49 U.S.C. Section 41102 and Subpart B, and the provisions of Order 2002-6-20, requesting a certificate of public convenience and necessity and allocation of frequencies, authorizing it to provide scheduled foreign air transportation of property and mail between the United States and Brazil.

Docket Number: OST-2002-12683.

Date Filed: July 19, 2002.

Due Date for Answers, Conforming Applications, or Motion to Modify Scope: August 9, 2002.

Description: Application of Gemini Air Cargo, Inc., pursuant to Order 2002-6-20, requesting certificate of public convenience and necessity to operate scheduled foreign air transportation of property and mail from a point or points in the United States; via intermediate points; to Manaus, Brasilia, Rio de Janeiro, Sao Paulo, Recife, Porto Alegre, Belem, Belo Horizonte, and Salvador de Bahia, Brazil; and beyond Brazil to Argentina, Uruguay, Paraguay, and Chile. Gemini seeks designation as a U.S. scheduled all-cargo carrier to Brazil, and asks the Department to allocate to Gemini the four all-cargo frequencies that are presently available.

Dorothy Y. Beard,
Federal Register Liaison.

[FR Doc. 02-20252 Filed 8-8-02; 8:45 am]

BILLING CODE 4910-62-P